DEPARTMENT OF THE INTERIOR

Bureau of Indian Affairs

American Indian Population and Labor Force Report

AGENCY: Bureau of Indian Affairs, Interior.

ACTION: Notice of proposed renewal of a current information collection; comment request.

SUMMARY: The Assistant Secretary—Indian Affairs (AS-IA) is seeking comments on the American Indian Population and Labor Force Report as we prepare to reinstate the collection as required by the Paperwork Reduction Act of 1995. The Indian Employment, Training and Related Services Demonstration Act (Act) of 1992 requires the Secretary to develop, maintain and publish, not less than biennially, a report on the population by gender, income level, age, and availability for work.

DATES: Submit comments on or before November 17, 2008.

ADDRESSES: Your comments and suggestions on the requirements should be made directly to Lynn Forcia, Division Chief, Division of Workforce Development, Office of Indian Energy and Economic Development, Office of the Assistant Secretary—Indian Affairs, Department of the Interior, 1951 Constitution Avenue, Mail Stop 20-SIB, NW., Washington, DC 20245; Telephone (202) 219-0740, Facsimile (202) 208-4564, E-mail Lynn.Forcia@BIA.GOV.

FOR FURTHER INFORMATION CONTACT: You may request further information or obtain copies of the proposed information collection request from Lynn Forcia, as identified in the ADDRESSES section.

SUPPLEMENTARY INFORMATION: The collection of this information is mandated by Congress by Public Law 102-477 Indian Employment, Training and Related Services Demonstration Act (Act) of 1992, Section 17a. The Assistant Secretary—Indian Affairs (AS-IA) is submitting the information collection for reinstatement. The information is used by interested parties such as tribal governments for the purpose of designing, planning and developing programs, for American Indians. This information is used to predict and identify the level of need for American Indians and Alaska Natives. This survey is the only accumulation of data on tribal enrollments, service population, workforce, and unemployment of tribal entities in the U.S.

Request for Comments: AS-IA requests your comments on this collection concerning:

(a) The validity of the methodology used;

(b) The validity of the assumptions used, including but not limited to, the definition of “service population” with its inclusions and exclusion, population not available for work exclusions, and inclusion of short term, part time or season employment characteristics.

(c) The accuracy of the agency's estimate of the burden (hours and cost) of the collection of information;

(d) The use of a computerized, automated collection technique by means of the Office of Indian Energy and Economic Development's Web site.

Please note that an agency may not sponsor or request and an individual need not respond to, a collection of information unless it has a valid OMB Control Number.

It is our policy to make all comments available to the public for review at the location listed in the ADDRESSES section, room 20-SIB, during the hours of 8 a.m. to 4 p.m., e.s.t., Monday through Friday, except for legal holidays. Please note that all comments received will be available for public review for two weeks after the comment period closes. Before including your address, phone number, e-mail address or other personally identifiable information, be advised that your entire comment—including your personally identifiable information—may be made public at any time. While you may request that we withhold your personally identifiable information, we cannot guarantee that we will be able to do so. All comments from organizations or representatives will be available for review. We may withhold comment from review for other reasons.

OMB Control Number: 1076-0147.

Type of Review: Reinstatement.

Title: Department of the Interior, Office of the Assistant Secretary—Indian Affairs, American Indian Population and Labor Force Report.

Brief Description of Collection: Public Law 102-477, the Indian Employment, Training, and Related Services Demonstration Act of 1992, mandates the Secretary to publish, not less than biennially, a report on the American Indian and Alaska Native population eligible for services by gender, income level, age, and availability for work. The process for collecting data has included the use of a paper data submission form with written instructions to be filled out by tribes and then certified at the tribal, agency, and regional level. The BIA believes that many of the reporting issues may be the result of misunderstanding of how to fill out this data submission form. The Office of Indian Energy and Economic Development has examined the data collection process and is hoping to address a truer depiction of tribal enrollment and BIA service population in Indian Country.

The Office of Indian Energy and Economic Development consulted with 5 of the 562 federally recognized tribal entities, ranging in membership less than 5,000 members to more than 250,000 members. The estimated time it took each tribe to respond to the biennial report was between one hour and four days, depending on the resources of the tribal government. It will take tribal representatives an estimated eight hours to complete the survey.

Number of Respondents: 562.

Estimated Time per Response: 8 hours.

Frequency of Reponses: Biennially.

Total Annual Burden to Respondents: 5,000 hours biennially.

Total Annual Cost to Respondents: N/A.

Dated: September 5, 2008.
Sanjeev Bhagowalia.
Chief Information Officer—Indian Affairs.

[FR Doc. E8-21644 Filed 9-15-08; 8:45 am]

BILLING CODE 4310-XN-P